DEPARTMENT OF THE INTERIOR

National Park Service

National Register of Historic Places; Notification of Pending Nominations and Related Actions

Nominations for the following properties being considered for listing or related actions in the National Register were received by the National Park Service before May 27, 2006. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by June 26, 2006.

John W. Roberts,
Acting Chief, National Register/National Historic Landmarks Program.

CALIFORNIA

Napa County

Napa Creek Bridge on Main St., (Highway Bridges of California MPS) Main St., SE of Pearl St., Napa, 06000540

MISSOURI

Greene County

Schneider, Henry, Building, 600 College St.—219-231 S. Main Ave., Springfield, 06000535

Springfield Furniture Company, (Springfield, Missouri MPS AD) 601 N. National, Springfield, 06000536

Jackson County

Alana Apartment Hotel, 2700-2706 Troost Ave. and 1015 E. 27th St., Kansas City, 06000543

Bailey Family Farm Historic District, (Lee's Summit, Missouri MPS) Bailey and Ranson Rds, Lee's Summit, 06000537

East 27th Street Colonnades Historic District, (Colonnade Apartment Buildings of Kansas City, MO MPS) 1300-02, 1312-14, 1320-22 E. 27th St., Kansas City, 6000538

Marks and Garvey Historic District, 2429,2433,2437 Tracy Ave., Kansas City, 06000542

Paris and Weaver Apartment Buildings, (Colonnade Apartment Buildings of Kansas City, MO MPS) 3944-46 and 3948-50 Walnut St., Kansas City, 06000545

Studna Garage Building, (Railroad Related Historic Commercial and Industrial Resources in Kansas City, Missouri MPS) 415 Oak St., Kansas City, 06000539

Jasper County

Fifth and Main Historic District, 501-513 S. Main St., 502-508 Virginia St., Joplin, 06000541

RHODE ISLAND

Providence County

South Street Station, 360 Eddy St., Providence, 06000553

Washington County

Upper Rockville Mill, 332 Canonchet Rd., Hopkinton, 06000552

SOUTH CAROLINA

Darlington County

Darlington Downtown Historic District, (City of Darlington MRA) Along portions of S. Main St. Pearl St., Public Sq. and Exchange St., Darlington, 06000546

TENNESSEE

Montgomery County

Country Woman's Club, 2216 Old Russellville Pike, Clarksville, 06000549

Putnam County

Buffalo Valley School, 2717 Buffalo Valley School Rd., Buffalo Valley, 06000548

Roane County

Bethel Cemetery, Euclid Ave. and Third St., Kingston, 06000547

Shelby County

Memphis Queen II Floating Vessel, Foot of Monroe at Riverside Dr., Memphis, 06000550

TEXAS

Bexar County

Harrison, John S., House, 14997 Evans Rd., Selma, 06000551

The Comment Period has been waived for the following resource:

MISSOURI

Jackson County

District III (Boundary Increase), (Armour Boulevard MRA) 3424 and 3426 Harrison Blvd., Kansas City, 06000544

[FR Doc. E6-8973 Filed 6-8-06; 8:45 am]

BILLING CODE 4312-51-P